DEPARTMENT OF ENERGY

Federal Energy Regulatory Commission

Combined Notice of Filings

March 10, 2009.

Take notice that the Commission has received the following Natural Gas Pipeline Rate and Refund Report filings:

Docket Numbers: RP96-312-188.

Applicants: Tennessee Gas Pipeline Company.

Description: Tennessee Gas Pipeline Company submits notice of the termination of a Negotiated Rate Arrangement.

Filed Date: 03/02/2009.

Accession Number: 20090309-0168.

Comment Date: 5 p.m. Eastern Time on Monday, March 16, 2009.

Docket Numbers: RP99-176-185.

Applicants: Natural Gas Pipeline Company of America.

Description: Natural Gas Pipeline Company of America, LLC submits an amendment with a negotiated rate exhibit to an existing recourse rate Storage Rate Schedule NSS Agreement with JP Morgan Ventures Energy Corp etc.

Filed Date: 03/05/2009.

Accession Number: 20090306-0038.

Comment Date: 5 p.m. Eastern Time on Tuesday, March 17, 2009.

Docket Numbers: RP99-176-186.

Applicants: Natural Gas Pipeline Company of America.

Description: Natural Gas Pipeline Company of America, LLC submits an amendment with negotiated rate exhibit to an existing negotiated Storage Rate Schedule NSS Agreement etc with Oneok Energy Services Company, LP.

Filed Date: 03/05/2009.

Accession Number: 20090306-0039.

Comment Date: 5 p.m. Eastern Time on Tuesday, March 17, 2009.

Docket Numbers: RP99-176-187

Applicants: Natural Gas Pipeline Company of America.

Description: Natural Gas Pipeline Company of America, LLC submits an amendment with negotiated rate exhibit to an existing discount Transportation Rate Schedule FTS Agreement.

Filed Date: 03/05/2009.

Accession Number: 20090306-0040.

Comment Date: 5 p.m. Eastern Time on Tuesday, March 17, 2009.

Docket Numbers: RP99-176-188.

Applicants: Natural Gas Pipeline Company of America.

Description: Natural Gas Pipeline Company of America, LLC submits an amendment with negotiated rate exhibit to an existing discounted Storage Rate Schedule NSS Agreement.

Filed Date: 03/05/2009.

Accession Number: 20090306-0041.

Comment Date: 5 p.m. Eastern Time on Tuesday, March 17, 2009.

Docket Numbers: RP99-176-189.

Applicants: Natural Gas Pipeline Company of America.

Description: Natural Gas Pipeline Company of America, LLC submits a new Transportation Rate Schedule FTS Agreement et al.Filed Date: 03/05/2009.

Accession Number: 20090306-0042.

Comment Date: 5 p.m. Eastern Time on Tuesday, March 17, 2009.

Docket Numbers: RP99-176-190.

Applicants: Natural Gas Pipeline Company of America.

Description: Natural Gas Pipeline Company of America, LLC submits an amendment with negotiated rate exhibit to an existing recourse rate Storage Rate Schedule NSS Agreement.

Filed Date: 03/05/2009.

Accession Number: 20090306-0043.

Comment Date: 5 p.m. Eastern Time on Tuesday, March 17, 2009.

Docket Numbers: RP99-176-191.

Applicants: Natural Gas Pipeline Company of America.

Description: Natural Gas Pipeline Company of America, LLC submits an amendment with a negotiated rate exhibit to an existing recourse rate Transportation Rate Schedule FTS Agreement with Black Hills Utility Holdings, Inc etc.

Filed Date: 03/05/2009.

Accession Number: 20090306-0036.

Comment Date: 5 p.m. Eastern Time on Tuesday, March 17, 2009.

Docket Numbers: RP04-274-017.

Applicants: Kern River Gas Transmission Company.

Description: Kern River Gas Transmission Company submits its FERC Gas Tariff, Second Revised Volume 1 the tariff sheets, the tariff sheets listed on Appendix A effective dates indicated.

Filed Date: 03/02/2009.

Accession Number: 20090306-0107.

Comment Date: 5 p.m. Eastern Time on Monday, March 16, 2009.

Docket Numbers: RP08-257-004.

Applicants: Saltville Gas Storage Company L.L.C.

Description: Saltville Gas Storage Company LLC submits their refund report pursuant to Sections 154.501 and 154.502 of the Commission's regulations.

Filed Date: 03/06/2009.

Accession Number: 20090309-0140.

Comment Date: 5 p.m. Eastern Time on Wednesday, March 18, 2009.

Docket Numbers: RP08-484-002.

Applicants: Colorado Interstate Gas Company.

Description: Colorado Interstate Gas Co submits Sixth Revised Sheet 318 et al to FERC Gas Tariff, First Revised Volume 1, to be effective 2/1/09.

Filed Date: 02/27/2009.

Accession Number: 20090304-0153.

Comment Date: 5 p.m. Eastern Time on Friday, March 13, 2009.

Docket Numbers: RP06-540-007.

Applicants: High Island Offshore System, L.L.C.

Description: Second annual report of non-routine expenditures pursuant to its O&M Agreement for calendar year 2008 of High Island Offshore System, L.L.C..

Filed Date: 03/02/2009.

Accession Number: 20090302-5186.

Comment Date: 5 p.m. Eastern Time on Monday, March 16, 2009.

Docket Numbers: RP09-435-000.

Applicants: Chandeleur Pipe Line Company.

Description: Chandeleur Pipe Line Company submits Petition For Approval of Settlement requesting Commission approval of an Offer of Settlement and Stipulation and Agreement etc.

Filed Date: 03/04/2009.

Accession Number: 20090305-0081.

Comment Date: 5 p.m. Eastern Time on Monday, March 16, 2009.

Docket Numbers: RP09-437-000.

Applicants: Young Gas Storage Company, Ltd.

Description: Young Gas Storage Company, LTD submits Eighth Revised Sheet No 96 et al to FERC Gas Tariff, Original Volume No 1.

Filed Date: 03/06/2009.

Accession Number: 20090309-0163.

Comment Date: 5 p.m. Eastern Time on Wednesday, March 18, 2009.

Docket Numbers: RP09-438-000.

Applicants: Wyoming Interstate Company, Ltd.

Description: Wyoming Interstate Company, Ltd submits Eighth Revised Sheet No 72 et al to FERC Gas Tariff, Second Revised Volume No 2.

Filed Date: 03/06/2009.

Accession Number: 20090309-0164.

Comment Date: 5 p.m. Eastern Time on Wednesday, March 18, 2009.

Docket Numbers: RP09-439-000.

Applicants: Cheyenne Plains Gas Pipeline Company LLC.

Description: Cheyenne Plains Gas Company, LLC submits First Revised Sheet No 244 et al to FERC Gas Tariff, Original Volume No 1.

Filed Date: 03/06/2009.

Accession Number: 20090309-0165.

Comment Date: 5 p.m. Eastern Time on Wednesday, March 18, 2009.

Docket Numbers: RP09-440-000.

Applicants: Colorado Interstate Gas Company.

Description: Colorado Interstate Gas Co submits Fifth Revised Sheet No. 330B et al to FERC Gas Tariff, First Revised Volume No. 1, to be effective 5/1/09.

Filed Date: 03/06/2009.

Accession Number: 20090309-0166.

Comment Date: 5 p.m. Eastern Time on Wednesday, March 18, 2009.

Docket Numbers: RP09-441-000.

Applicants: Transcontinental Gas Pipe Line Company.

Description: Fee Collection Report by Transcontinental Gas Pipeline: Petitions for issuance of declaratory order.

Filed Date: 03/06/2009.

Accession Number: 20090309-0142.

Comment Date: 5 p.m. Eastern Time on Wednesday, March 18, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-5685 Filed 3-16-09; 8:45 am]

BILLING CODE 6717-01-P